DEPARTMENT OF THE INTERIOR

Bureau of Land Management

[ES-960-1310-XG]

Notice of Temporary Closure of Eastern States; Office/Remodeling

AGENCY: Bureau of Land Management, Interior.

ACTION: Notice of temporary closure.

SUMMARY: The Bureau of Land Management, Eastern States State Office is in the process of a remodeling and refurbishing project. The Public Room, Dockets, Accounts, Bindery, the Vaults and Central Records will not be available to the public. There will be no over-the-counter transactions or research of patent records not contained within the GLO records system. The official records (i.e., case files, field notes, maps, plats, patents, etc.) located in the vaults and dockets will not be available for public inspection. Incoming phone calls will be answered and routed accordingly. All accounting transactions, deposits and GLO system requests will continue without interruption.

DATES: The dates that the Bureau of Land Management, Eastern States Office will be closed for remodeling and refurbishing are February 24, 2003 through March 17, 2003. We will resume all services and access to case files and patents on March 18, 2003. Full access to all other records previously mentioned will commence on March 31, 2003.

FOR FURTHER INFORMATION CONTACT: Stephen Douglas, Deputy State Director, Cadastral Survey and GLO Records, (703) 440-1688.

Dated: February 13, 2003.
Michael D. Nedd,
State Director, Eastern States.

[FR Doc. 03-4494 Filed 2-21-03; 12:08 pm]

BILLING CODE 4310-GJ-P